FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 011223-039.

Title: Transpacific Stabilization Agreement.

Parties: APL Co. PTE Ltd./American President Lines, Ltd.; CMA-CGM S.A.; COSCO Container Lines Co., Ltd.; Evergreen Line Joint Service Agreement; Hanjin Shipping Co., Ltd.; Hapag-Lloyd AG; Hyundai Merchant Marine Co., Ltd.; Kawasaki Kisen Kaisha, Ltd.; Mitsui O.S.K. Lines, Ltd.; Nippon Yusen Kaisha; Orient Overseas Container Line Limited; and Yangming Marine Transport Corp.

Filing Party: David F. Smith, Esq.; Sher & Blackwell LLP; 1850 M Street NW., Suite 900; Washington, DC 20036.

Synopsis: The amendment would add Zim Integrated Shipping Services, Ltd. as a party to the agreement.

Agreement No.: 011795-003.

Title: Puerto Rico Cross Space Charter and Sailing Agreement.

Parties: Compania Sud Americana de Vapores S.A. and Compania Chilena de Navegacion Interoceanica S.A.

Filing Party: Walter H. Lion, Esq.; McLaughlin & Stern, LLP; 260 Madison Avenue; New York, NY 10016.

Synopsis: The amendment adds the Dominican Republic to the geographic scope of the agreement.

Agreement No.: 011929-002.

Title: Hapag-Lloyd/Zim Mediterranean Slot Exchange Agreement.

Parties: Hapag-Lloyd AG and Zim Integrated Shipping Services, Ltd.

Filing Party: Wayne R. Rohde, Esq.; Sher & Blackwell LLP; 1850 M Street NW., Suite 900; Washington, DC 20036.

Synopsis: The amendment expands the scope of the agreement to cover countries bordering on the Mediterranean Sea.

Agreement No.: 011942-002.

Title: CMA-CGM/CSCL Cross Space Charter, Sailing and Cooperative Working Agreement—Far East/US Gulf Loop, PEX2/PEX3/AAE2 Service.

Parties: CMA-CGM, S.A.; China Shipping Container Lines Co., Ltd.; and China Shipping Container Lines (Hong Kong) Co., Ltd.

Filing Party: Paul M. Keane, Esq.; Cichanowicz, Callan, Keane, Vengrow & Textor LLP; 61 Broadway; Suite 3000; New York, NY 10006-2802.

Synopsis: The amendment authorizes the swapping of space between the parties in connection with another service loop under a different vessel-sharing agreement.

Agreement No.: 011946-001.

Title: CMA CGM/CSCL Cross Space Charter, Sailing, and Cooperative Working Agreement—Far East/USEC Loop, PEX1/AAE1 Service.

Parties: CMA CGM, S.A.; China Shipping Container Lines Co., Ltd.; and China Shipping Container Lines (Hong Kong) Co., Ltd.

Filing Party: Paul M. Keane, Esq.; Cichanowicz, Callan, Keane, Vengrow & Textor, LLP; 61 Broadway; Suite 3000; New York, NY 10006-2802.

Synopsis: The amendment reduces the geographic scope, reduces the number of vessels in the service, decreases the sailing time of the service string, and authorizes the swapping of space between the parties in connection with another service loop under a different vessel-sharing agreement.

Dated: May 10, 2007.
By Order of the Federal Maritime Commission.
Bryant L. VanBrakle,
Secretary.

[FR Doc. E7-9313 Filed 5-14-07; 8:45 am]

BILLING CODE 6730-01-P